ENVIRONMENTAL PROTECTION AGENCY

[EPA-HQ-OW-2018-0618; FRL 10001-41-OW]

Preliminary Effluent Guidelines Program Plan 14

AGENCY: Environmental Protection Agency (EPA).

ACTION: Notice of availability.

SUMMARY: This notice of availability announces the Environmental Protection Agency's (EPA) Preliminary Effluent Guidelines Program Plan 14 (Preliminary Plan 14) and solicits public comment. Section 304(m) of the Clean Water Act (CWA) requires the EPA to biennially publish a plan for new and revised effluent limitations guidelines, after public review and comment. Preliminary Plan 14 identifies any new or existing industrial categories selected for effluent guidelines or pretreatment standards and provides a schedule for their development. The EPA typically publishes a preliminary plan upon which the public is invited to comment, and then publishes a final plan thereafter. The EPA developed Preliminary Plan 14 based on its review and analysis of data from 2016, 2017, and 2018 as part of its annual review process.

DATES: Comments must be received on or before November 25, 2019.

ADDRESSES: Submit your comments, identified by Docket ID No. EPA-HQ-OW-2018-0618, to the Federal eRulemaking Portal: https://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI and multimedia submissions, and general guidance on making effective comments, please visit https://www.epa.gov/dockets/commenting-epa-dockets.

FOR FURTHER INFORMATION CONTACT: Dr. Phillip Flanders, Engineering and Analysis Division, Office of Water, 4303T, U.S. Environmental Protection Agency, 1200 Pennsylvania Avenue NW, Washington, DC 20460; telephone number: (202) 566-8323; fax number: (202) 566-1053; email address: flanders.phillip@epa.gov.

SUPPLEMENTARY INFORMATION:

I. General Information

A. Supporting Documents—A key document providing additional information is the Preliminary Effluent Guidelines Program Plan 14 document. Supporting documents providing further details are also available for review.

B. How can I get copies of these documents and other related information?

1. Docket. The EPA has established an official public docket for these actions under Docket ID No. EPA-HQ-OW-2018-0618. The official public docket is the collection of materials that are available for public viewing at the Water Docket in the EPA Docket Center, (EPA/DC) EPA West, Room 3334, 1301 Constitution Ave. NW, Washington, DC 20460.

2. Electronic Access. You can access this Federal Register document electronically through the United States Government online source for Federal regulations at https://www.regulations.gov.

3. Internet access. Copies of the supporting documents are available at https://www.epa.gov/eg/effluent-guidelines-plan.

II. How is this document organized?

The outline of this document follows.

A. Legal Authority.

B. Summary of Preliminary Effluent Guidelines Program Plan 14.

C. Request for Public Comments and Information.

A. Legal Authority

This notice of availability is published under the authority of the CWA, 33 U.S.C. 1251, et seq., and in particular sections 301(d), 304(b), 304(g), 304(m), 306, 307(b) and 308 of the Act, 33 U.S.C. 1311(d), 1314(b), 1314(g), 1314(m), 1316, 1317(b), and 1318.

B. Summary of Preliminary Effluent Guidelines Program Plan 14

The EPA prepares Preliminary Effluent Guidelines Program Plans pursuant to CWA section 304(m). Preliminary plans provide a summary of the EPA's annual review of effluent guidelines and pretreatment standards, consistent with CWA sections 301(d), 304(b), 304(g), 304(m), and 307(b). From these reviews, preliminary plans identify any new or existing industrial categories selected for effluent guidelines or pretreatment standards rulemakings and provide a schedule for such rulemakings. In addition, preliminary plans present any new or existing categories of industry selected for further review and analysis.

Preliminary Plan 14 discusses the one ongoing rulemaking (and the associated schedule) for the Steam Electric Power Generating Point Source Category. The EPA has concluded that no additional categories warrant new or revised effluent guidelines at this time. Preliminary Plan 14 provides updates on the Electrical and Electronic Components Category Detailed Study and the Oil and Gas Extraction Wastewater Management Study and concludes the Petroleum Refining Point Source Category Detailed Study. Additionally, Preliminary Plan 14 introduces new analyses and tools that the EPA is developing to improve its annual review and biennial planning process.

Preliminary Plan 14 can be found at https://www.epa.gov/eg/effluent-guidelines-plan.

C. Request for Public Comments and Information

The EPA requests comments and information on the overall content of Preliminary Plan 14 and specifically on the following topics.

1. Reviews of Industrial Wastewater Discharges and Treatment Technologies

The EPA solicits comments on the reviews of industrial wastewater discharges and treatment technologies that were conducted for the development of Preliminary Plan 14 and described therein. The EPA solicits comments on the new analyses and tools announced in Preliminary Plan 14, including analyses of industrial sources and discharges of nutrients and per- and polyfluoroalkyl substances (PFAS), a new methodology for proposed treatment technology reviews, and a proposed effluent limitations guidelines database. Preliminary Plan 14 presents initial results for some new analyses (e.g., industrial discharges of nutrients). The EPA solicits comments on the utility and applicability of these results along with any comments or suggestions on the methodologies used to obtain them.

2. Data Sources

The EPA solicits comment on other data sources it might use in its annual reviews and biennial planning process.

David P. Ross,
Assistant Administrator, Office of Water.

[FR Doc. 2019-23192 Filed 10-23-19; 8:45 am]

BILLING CODE 6560-50-P